DEPARTMENT OF STATE

[Public Notice 4285]

Bureau of Educational and Cultural Affairs Request for Grant Proposals: ACCESS Program: Indonesia, Philippines, Serbia, and Southeast Europe

AGENCY: Department of State.

ACTION: Notice.

SUMMARY: The Office of Citizen Exchanges, Youth Programs Division, of the Bureau of Educational and Cultural Affairs announces an open competition for four projects under the new ACCESS (Access to Community and Civic Enrichment for Students) Program in Indonesia, Philippines, Serbia, and Southeast Europe. Public and private non-profit organizations meeting the provisions described in Internal Revenue Code section 26 U.S.C. 501(c)(3) may submit proposals to recruit and select youth and adult participants in the specified countries and to provide the participants with a U.S.-based exchange project focused on civic education, leadership, conflict resolution, tolerance and respect for diversity, and community activism.

Program Information

Overview: The ACCESS (Access to Community and Civic Enrichment for Students) Program is an exchange program model that enables teenagers (ages 15-17) and adult educators to participate in intensive, thematic, month-long projects in the United States that complement a more formal education in the principles of a civil society. Participants will be engaged in a variety of activities such as workshops, community and/or school-based programs, cultural activities, seminars and other activities designed to achieve the projects' stated goals and objectives. Opportunities for participants to interact with American youth and adult educators will be included whenever appropriate.

The goals of the programs are:

(1) To develop a sense of civic responsibility and commitment to community development among youth;

(2) To foster relationships among youth from different ethnic, religious, and national groups;

(3) To promote mutual understanding between the United States and the people of other countries.

Applicants should identify their own specific objectives and measurable outcomes based on these program goals and the project specifications provided in this solicitation.

Should organizations wish to apply for more than one project, they must submit a separate proposal for each. Each of the four projects will be judged independently and proposals for a particular country or region will be compared only to proposals for the same country or region.

Project A: Indonesia. Total funding: $500,000. 45-70 participants total. Applicants should propose a U.S. program in summer 2004. ECA may award one or two grants. Therefore, an organization may apply to conduct the entire project, or it may apply to work with a fraction of the participant numbers specified and request a commensurate grant amount using this per capita range: $7,140-$11,100. Requests for less than the full amount should not exceed 60% of the total funding available. The Bureau reserves the right to adjust grant amounts should it choose to fund more than one proposal under each project.

Project B: Philippines. Total funding: $200,000. 30-40 participants. Applicants should propose a U.S. program between January and June 2004. ECA intends to award only one grant.

Project C: Serbia. Total funding: $198,000. 30-40 participants. Applicants should propose a U.S. program in spring 2004. ECA intends to award only one grant.

Project D: Southeast Europe. Total funding: $595,000. 96-120 participants. Applicants should propose a U.S. program in summer 2004. ECA may award one or two grants. Therefore, an organization may apply to conduct the entire project, or it may apply to work with a fraction of the participant numbers specified and request a commensurate grant amount using this per capita range: $4,960-$6,200. Requests for less than the full amount should not exceed 60% of the total funding available. The Bureau reserves the right to adjust grant amounts should it choose to fund more than one proposal under each project.

Although all countries or entities in Southeast Europe are potentially eligible for this regional project, ECA anticipates the following will be included: Macedonia, Romania, Albania, Bulgaria, Kosovo, Serbia and Montenegro.

Note: The Bureau's ability to carry out these programs is dependent upon the availability of funds and the fulfillment of certification requirements contained in pending legislation.

For all four projects, applicants must demonstrate their capacity for doing projects of this nature, focusing on three areas of competency: (1) Provision of programs aimed at achieving the goals and themes outlined in this document; (2) age-appropriate programming for youth; and (3) work in Indonesia, the Philippines, Serbia or Southeast Europe. Applicants need to have the necessary capacity in the geographic areas from which participants will be recruited or a partnered institution with the requisite capacity to recruit and select participants for the program and to provide follow-on activities.

The Bureau reserves the right to reduce, revise, or increase proposal budgets in accordance with the needs of the program and the availability of funds. The Bureau also reserves the right to renew this grant in future years contingent upon the successful performance of the grant recipient and the availability of funding.

Guidelines

Grants should begin on or about July 1, 2003, subject to the availability of funds. The grant period will be 12-16 months in duration, as appropriate.

In pursuit of the goals outlined above, the programs will include the following:

• Recruitment and selection of youth and adult educators from the appropriate geographic regions.

• A pre-departure orientation program

• Designing and planning of activities that provide a substantive program on leadership development, civic education, community service, and conflict resolution. Some activities should be school and/or community-based, as feasible, and the projects will involve as much interaction with American peers as possible.

• Logistical arrangements, home-stay arrangements (as appropriate) and/or other accommodation, provisions for religious observance, disbursement of stipends/per diem, local travel, and travel between sites.

• Follow-on activities in the participants' geographic areas designed to reinforce the ideas, values and skills imparted during the U.S. program.

Recruitment and Selection: The grant recipients will manage the recruitment and merit-based selection of participants in cooperation with the Public Affairs offices at the U.S. Embassies or other USG representative offices overseas. Organizers must strive for the broadest regional and ethnic diversity. The Department of State and/or its overseas representatives reserve final approval of all selected delegations.

Participants: The participants will be teenagers aged 15 to 17, who have demonstrated leadership aptitude and an interest in community service, and adults who are teachers, school administrators, and/or community leaders who work with youth. The ratio of students to adults will be approximately 5:1.

Criteria for selection of participants will be leadership skills, an interest in service to the community, strong academic and social skills, overall composure, openness and flexibility and English proficiency (for Philippines, Serbia, and Southeast Europe only).

Groups: Applicants should present ideas on dividing the participants in each project into smaller groups of about 12-15 individuals for both logistical and pedagogical reasons. Groups will be as mixed as is feasible (adults/youth, geographic, ethnicity, religious background, etc.).

U.S. Program: The projects may take place in one or two communities and should offer the participants exposure to the variety of American life. The program should focus primarily on interactive activities, practical experiences, and other hands-on opportunities to learn about the fundamentals of a civil society, community service, conflict resolution, tolerance and respect for diversity, and building leadership skills. Suggestions include simulations, a volunteer service project, and leadership training exercises. All programming should include American participants wherever possible. Cultural and recreational activities will balance the schedule. Please see the POGI for more details.

Follow-on Activities and In-Country Programming: Follow-on programming for U.S. program alumni is essential, and additional in-country programming is strongly recommended. Applicants may present creative and effective ways to address the project themes, for both program participants and their peers, as a means to amplify the program impact.

Applicants are invited to submit proposals for one or more of the four projects announced here (a separate proposal for each project). Each project differs in a number of respects. Attributes specific to each project are as follows:

A: Indonesia

Objective: To introduce students and educators from Indonesian pesantren (Islamic boarding schools) to the principles of civic education, civil society, and youth leadership as they are practiced in the United States.

Participants: 38-58 students and 7-12 educators who have demonstrated an interest in playing a role in their communities. Given the religious and cultural conventions of pesantren students, the adult participants will also need to serve as chaperones and advisors.

B: Philippines

Objective: To advance a dialogue and a degree of mutual understanding between Muslim and non-Muslim youth from the Autonomous Region of Muslim Mindanao and surrounding provinces, leading to a strategy to implement cooperatively after re-entry.

Participants: 25-30 teenagers and 5-10 educators. Educators should have demonstrated conflict resolution experience and expect to remain in positions where they can continue working with youth on matters related to conflict resolution and inter-ethnic understanding. The group should be evenly divided between Muslim and non-Muslim participants (both youth and adults). It is desirable that 2-3 participants attend or teach at the same school or live in the same community so that they can support each other upon return.

C: Serbia

Objective: To present opportunities to youth and educators to learn about citizen activism and leadership through substantive program sessions, school-based activities, and exposure to models of leadership.

Participants: 23-33 students and 5-10 educators selected from seven to ten geographically and ethnically diverse cities in the Republic of Serbia. (Note: Individuals from the Republic of Montenegro or from Kosovo are not eligible, as funding for those entities is handled separately.) For this project, the ratio of students to teachers may be 3:1, 4:1, or 5:1. Between three and five participants, at least one of whom is a teacher, should be chosen from each city or town, as those who attend/teach at the same school or live in the same community will be able to support each other upon their return.

D: Southeast Europe

Objective: To bring together participants from across the Balkans to study youth activism, civic participation, and the rights and responsibilities of citizens in a democracy, and to develop leadership skills.

Participants: 80-100 students and 16-20 educators/community leaders who have a demonstrated interest in leadership and who represent the geographic, ethnic, and religious diversity of the Balkans.

Proposals must demonstrate how the stated objectives will be met. The proposal narrative should provide detailed information on the major program activities, and applicants should explain and justify their programmatic choices. Programs must comply with J-1 visa regulations. Please be sure to refer to the complete Solicitation Package—this RFGP, the Project Objectives, Goals, and Implementation (POGI), and the Proposal Submission Instructions (PSI)—for further information.

Budget Guidelines

The funding available for these projects is $500,000 for Indonesia, $200,000 for the Philippines, $198,000 for Serbia, and $595,000 for Southeast Europe. ECA intends to award between four and six grants for the four projects under the ACCESS Program announced in this RFGP. The Bureau reserves the right to reduce, revise, or increase proposal budgets in accordance with the needs of the program and the availability of funds.

The Bureau anticipates awarding four or more grants exceeding $60,000 each under this competition. Bureau grant guidelines require that organizations with less than four years of experience in conducting international exchanges be limited to $60,000 in Bureau funding. Therefore, organizations with less than four years of experience in conducting international exchange programs are not eligible to apply under this competition.

Applicants must submit a comprehensive budget for the entire program. There must be a summary budget as well as breakdowns reflecting program, administrative, and cost-sharing budgets. Applicants may provide separate sub-budgets for each program component, phase, location, or activity to provide clarification.

Please be sure to refer to the complete Solicitation Package. The POGI outlines allowable costs; the PSI offers complete budget guidelines and formatting instructions.

Announcement Title and Number: All correspondence with the Bureau concerning this RFGP should reference the above title and number ECA/PE/C/PY-03-31.

FOR FURTHER INFORMATION CONTACT: The Youth Programs Division, Office of Citizen Exchanges, ECA/PE/C/PY, Room 568, U.S. Department of State, 301 4th Street, SW., Washington, DC 20547, (202) 619-6299, fax (202) 619-5311, E-mail: npleasan@pd.state.gov to request a Solicitation Package. The Solicitation Package contains detailed award criteria, required application forms, specific budget instructions, and standard guidelines for proposal preparation. Please specify the Bureau program officers on all other inquiries and correspondence.

Please read the complete Federal Register announcement before sending inquiries or submitting proposals. Once the RFGP deadline has passed, Bureau staff may not discuss this competition with applicants until the proposal review process has been completed.

To Download a Solicitation Package via Internet: The entire Solicitation Package may be downloaded from the Bureau's Web site at http://exchanges.state.gov/education/RFGPs. Please read all information before downloading.

Deadline for Proposals: All proposal copies must be received at the Bureau of Educational and Cultural Affairs by 5 p.m. Washington, DC time on Friday, April 11, 2003. Faxed documents will not be accepted at any time. Documents postmarked the due date but received on a later date will not be accepted. Each applicant must ensure that the proposals are received by the above deadline.

Applicants must follow all instructions in the Solicitation Package. The original proposal, one fully-tabbed copy, and six copies of the application with Tabs A-E should be sent to: U.S. Department of State, SA-44, Bureau of Educational and Cultural Affairs, Ref.: ECA/PE/C/PY-03-31, Program Management, ECA/EX/PM, Room 534, 301 4th Street, SW., Washington, DC 20547.

Applicants must also submit the executive summary, proposal narrative, budget section, resumes, and any important appendices as e-mail attachments in Microsoft Word and Excel to the following e-mail address: npleasan@pd.state.gov. In the e-mail message subject line, include the reference number (ECA/PE/C/PY-03-31) and the country/region for which you are applying. The Bureau will transmit these files electronically to the public affairs sections of the relevant U.S. embassies for review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Office of Citizen Exchanges, Youth Programs Division of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If the applicant has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges, Youth Programs Division of ECA will be responsible for issuing DS-2019 forms to participants in this program for obtaining J-1 visas.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea: The proposed program should be well developed, respond to design outlined in the solicitation, and demonstrate originality. It should be clearly and accurately written, substantive, and with sufficient detail. Proposals should exhibit originality, substance, precision, and relevance to the Bureau's mission.

2. Program planning: A detailed agenda and work plan should clearly demonstrate how project objectives will be achieved. The agenda and plan should adhere to the program overview and guidelines described above. The substance of workshops, seminars, presentations, school-based activities, and/or site visits should be described in detail.

3. Ability to achieve program objectives: Objectives should be reasonable, feasible, and flexible. The proposal should clearly demonstrate how the institution will meet the program's objectives and plan.

4. Support of diversity: The proposal should demonstrate the recipient's commitment to promoting the awareness and understanding of diversity in program content. Applicants should demonstrate readiness to accommodate participants with physical disabilities.

5. Institutional capacity and track record: Proposed personnel and institutional resources should be adequate and appropriate to achieve the program goals. The proposal should demonstrate an institutional record, including responsible fiscal management and full compliance with all reporting requirements for past Bureau grants as determined by the Bureau's Office of Contracts. The Bureau will consider the past performance.

6. Cross-cultural sensitivity and area expertise:Applicants must demonstrate their understanding of the area in which they propose to work and should demonstrate sensitivity to participants' values, customs, and life experiences in the programming.

7. Follow-on activities: Proposals should provide a plan for a Bureau-supported follow-on visit by project staff to the relevant country or region, plus a plan for continued follow-on activity, not necessarily with Bureau support, that insures that this program is not an isolated event.

8. Project evaluation: The proposal should include a plan to evaluate the activity's success, both as the activities unfold and at the end of the program. The proposal should include a draft survey questionnaire or other technique plus description of a methodology to use to link outcomes to original project objectives. The grant recipient will be expected to submit intermediate reports after each project component is concluded.

9. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

10. Value to U.S.-Partner Country Relations: The proposed project should receive positive assessments by the U.S. Department of State's geographic area desk and overseas officers of program need, potential impact, and significance in the partner country.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The funding authority for the Serbia and Southeast Europe projects is provided through Support for East European Democracy (SEED) legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 14, 2003.
Patricia S. Harrison,
Assistant Secretary for Educational and Cultural Affairs, Department of State.

[FR Doc. 03-4305 Filed 2-21-03; 8:45 am]

BILLING CODE 4710-05-P